DEPARTMENT OF THE TREASURY

Submission for OMB Review; Comment Request

November 8, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW, Washington, DC 20220.

DATES: Written comments should be received on or before December 19, 2002, to be assured of consideration.

Bureau of Engraving and Printing (BEP)

OMB Number: 1520-0002.

Form Number: BEP 5287.

Type of Review: Extension.

Title: Claim for Amounts Due in the Case of Deceased Owner of Mutilated Currency.

Description: BEP Form 5287 is used when Treasury is required to determine ownership in cases of a deceased owner of damaged or mutilated currency.

Respondents: Individuals or households, Business or other for-profit, Not-for-profit institutions, State, Local or Tribal Government.

Estimated Number of Respondents: 180.

Estimated Burden Hours Per Response: 55 minutes.

Frequency of Response: On occasion.

Estimated Total Reporting Burden: 165 hours.

Clearance Officer: Pamela Grayson, Bureau of Engraving and Printing, Room 3.2.C, Engraving and Printing Annex, 14th and C Streets, SW., Washington, DC 20228, (202) 874-2212.

OMB Reviewer: Joseph F. Lackey, Jr., Office of Management and Budget, Room 10235, New Executive Office Building, Washington, DC 20503, (202) 395-7316.

Mary A. Able,
Departmental Reports Management Officer.

[FR Doc. 02-29233 Filed 11-18-02; 8:45 am]

BILLING CODE 4840-01-P